DEPARTMENT OF THE INTERIOR

Bureau of Land Management

[18XL1109AF LLUTC03000.L14400000.FR0000; UTU-91955-01]

Notice of Realty Action: Recreation and Public Purposes Act Classification for the Conveyance of Public Land in Washington County, Utah

AGENCY: Bureau of Land Management, Interior.

ACTION: Notice of Realty Action.

SUMMARY: The Bureau of Land Management (BLM) has examined and found suitable for classification for conveyance to Washington County Special Services District (County) under the provisions of the Recreation and Public Purposes Act (R&PP), as amended, 55 acres of public land located in Washington County, Utah. The County proposes to expand its existing landfill.

DATES: Interested parties may submit written comments regarding this classification for lease or conveyance until May 3, 2018. The conveyance would not occur prior to May 18, 2018. Comments may be mailed, hand-delivered, or faxed to 435-688-3252. Telephone calls and emails will not be accepted.

ADDRESSES: Submit written comments to the BLM, St. George Field Office, Field Manager, 345 E Riverside Drive, St. George, UT 84790.

FOR FURTHER INFORMATION CONTACT: Teresa Burke by email: tsburke@blm.gov, or by telephone: 435-688-3326. Persons who use a telecommunications device for the deaf (TDD) may call the Federal Relay Service (FRS) at 1-800-877-8339 to leave a message or question for the above individual. The FRS is available 24 hours a day, 7 days a week. You will receive a reply during normal business hours.

SUPPLEMENTARY INFORMATION: The following described public land in Washington County, Utah, has been examined and found suitable for classification for conveyance for an addition to the existing landfill under provisions of the R&PP Act, as amended (43 U.S.C. 869 et seq.), and 43 CFR 2740:

Salt Lake Meridian, Utah

T. 42 S., R. 14 W.,

Sec. 8, SW1/4SE1/4NE1/4, NE1/4NE1/4SE1/4SW1/4, S1/2NE1/4SE1/4SW1/4, NE1/4SW1/4SE1/4SW1/4, S1/2SW1/4SE1/4SW1/4, NE1/4NW1/4SE1/4, and SW1/4NW1/4SE1/4;

Sec. 9, SW1/4NW1/4NW1/4.

The areas described aggregate 55 acres.

This classification is in conformance with the St. George Resource Management Plan (RMP), approved in March 1999, and is not needed for any Federal purpose. Conveyance is consistent with BLM planning for the area and would be in the public interest. The parcel was analyzed in a site-specific Environmental Assessment numbered DOI-BLM-UT-C030-2016-0055. A conveyance would be subject to the provisions of the R&PP Act, applicable regulations of the Secretary of the Interior, including, but not limited to, 43 CFR subpart 2743 and the following reservations to the United States:

1. A right-of-way reservation for ditches or canals constructed by authority of the United States under the Act of August 30, 1890 (43 U.S.C. 945).

2. The conveyance will be subject to all valid existing rights of record.

3. All minerals are reserved to the United States, together with the right to prospect for, mine, and remove the minerals, under applicable laws and regulations established by the Secretary of the Interior.

4. An indemnification clause protecting the United States from claims arising out of the patentee's use, occupancy, or operation on the land.

5. A limited reversionary provision stating that the title shall revert to the United States upon a finding, after notice and opportunity for a hearing, that the patentee has not substantially developed the lands in accordance with the approved plan of development on or before the date five years after the date of conveyance. No portion of the land shall under any circumstance revert to the United States if any such portion has been used for solid waste disposal or for any other purpose which may result in the disposal, placement, or release of any hazardous substance.

6. The patentee shall comply with all Federal and State laws applicable to the disposal, placement, or release of hazardous substances.

7. If, at any time, the patentee transfers to another party ownership of any portion of the land not used for the purpose(s) specified in the application and the approved plan of development, the patentee shall pay the Bureau of Land Management the fair market value, as determined by the authorized officer, of the transferred portion as of the date of transfer, including the value of any improvements thereon.

8. Any other reservations that the authorized officer determines appropriate to ensure public access and proper management of Federal lands and interests therein.

On publication of this Notice, the above described land will be segregated from all other forms of appropriation under the public land laws, including the general mining laws, except for conveyance under the R&PP Act and leasing under the mineral leasing laws. Information concerning the conveyance, including planning and environmental documents, are available for review during business hours, 7:30 a.m. to 4:30 p.m., Mountain Time, Monday through Friday, at the BLM, St. George Field Office, except during Federal holidays.

Comments on the classification are restricted to four subjects:

(1) Whether the land is physically suited for the proposal;

(2) Whether the use will maximize the future uses of the land;

(3) Whether the use is consistent with local planning and zoning; and

(4) If the use is consistent with State and Federal programs.

Application Comments: You may submit comments regarding the specific use proposed in the application and plan of development, whether the BLM followed proper administrative procedures in reaching the decision, or any other factor not directly related to the suitability of the land for the requested R&PP use.

Before including your address, phone number, email address, or other personal identifying information in any comment, be aware that your entire comment including any personal identifying information may be made publicly available at any time. Requests to withhold personal identifying information from public review can be submitted, but the BLM cannot guarantee that it will be able to do so. Any adverse comments will be reviewed by the BLM State Director or other authorized official of the Department of the Interior, who may sustain, vacate, or modify this realty action. In the absence of any adverse comments, this realty action will become the final determination of the Department of the Interior.

Authority: 43 CFR 2741.5.

Edwin L. Roberson,
State Director.

[FR Doc. 2018-05546 Filed 3-16-18; 8:45 am]

BILLING CODE 4310-DQ-P